DEPARTMENT OF HEALTH AND HUMAN SERVICES

Centers for Disease Control and Prevention

[30Day-13-0650]

Agency Forms Undergoing Paperwork Reduction Act Review

The Centers for Disease Control and Prevention (CDC) publishes a list of information collection requests under review by the Office of Management and Budget (OMB) in compliance with the Paperwork Reduction Act (44 U.S.C. chapter 35). To request more information on the proposed projects or to obtain a copy of the data collection plans and instruments, call 404-639-7570 or send comments to Kimberly Lane, 1600 Clifton Road, MS D-74, Atlanta, GA 30333 or send an email to omb@cdc.gov. Send written comments to CDC Desk Officer, Office of Management and Budget, Washington, DC or by fax to (202) 395-5806. Written comments should be received within 30 days of this notice.

Proposed Project

Prevention Research Centers Program National Evaluation Reporting System—Revision—Division of Population Health, National Center for Chronic Disease Prevention and Health Promotion (NCCDPHP), Centers for Disease Control and Prevention (CDC).

Background and Brief Description

The Prevention Research Centers (PRC) Program was established by Congress through the Health Promotion and Disease Prevention Amendments of 1984. PRCs conduct outcomes-oriented health promotion and disease prevention research on a broad range of topics using a multi-disciplinary and community-based approach. CDC manages the PRC Program and currently provides funding to PRC grantees that are housed within schools of public health, medicine or osteopathy. Awards are made for five years and may be renewed through a competitive application process.

CDC is currently approved to collect performance information from PRCs through a web-based survey and telephone interview (OMB #0920-0650, exp. 6/30/2013). The web-based survey is designed to collect information on the PRCs' collaborations with health departments; formal training programs and other training activities; and other funded prevention research projects conducted separately from their core research. A structured telephone interview with a key PRC informant obtains information on systems and environmental changes in which PRCs are involved. The content of the information collection is guided by a set of performance indicators developed (2002) and later revised (2009) in collaboration with the PRCs.

CDC requests OMB approval to continue conducting the annual web-based survey and the annual interview. Changes to be implemented include (1) changing the platform of the web-based survey, (2) reducing the number of questions asked on each instrument, and (3) revising some questions for clarity or to reflect the current needs and priorities of the program. The proposed changes will result in a net decrease in burden to respondents.

OMB approval is requested for a three-year period with a start date of June 1, 2013. There are no costs to respondents other than their time. The total estimated burden hours are 204.

Estimated Annualized Burden Hours
Type of respondent | Form name | Number of respondents | Number of responses per respondent | Average burden per response (in hours)
PRC Program | Survey | 37 | 1 | 5
| Telephone Interview | 37 | 1 | 0.5

Ron A. Otten,
Director, Office of Scientific Integrity (OSI), Office of the Associate Director for Science (OADS), Office of the Director.

[FR Doc. 2013-06493 Filed 3-20-13; 8:45 am]

BILLING CODE 4163-18-P